DEPARTMENT OF THE INTERIOR

Bureau of Ocean Energy Management

Outer Continental Shelf (OCS), Alaska OCS Region, Chukchi Sea Planning Area, Proposed Oil and Gas Lease Sale 237 (Lease Sale 237) MMAA104000

AGENCY: Bureau of Ocean Energy Management (BOEM), Interior.

ACTION: Correction; Call for Information and Nominations.

SUMMARY: This Notice is a correction of the notice published as docket number 2013-23670. The only correction is the addition of the map entitled “Chukchi Sea Planning Area for Information and Nominations Lease Sale 237”. This Call for Information and Nominations (“Call”) is the initial step in the prelease process for Lease Sale 237 in the Chukchi Sea Planning Area, scheduled to be held in 2016, as included in the Proposed Final OCS Oil and Gas Leasing Program 2012-2017 (“Five Year Program”). The purpose of this Call is to obtain nominations and information on oil and gas leasing, exploration, and development that might result from an OCS oil and gas lease sale for the Chukchi Sea Planning Area. The lease sale area addressed in this Call (“Program Area”) is located offshore Alaska in the Chukchi Sea Planning Area. As identified in the Five Year Program, the Program Area is a sub-area of the larger Chukchi Sea Planning Area.

DATES: All responses to the Call must be received no later than November 18, 2013.

FOR FURTHER INFORMATION CONTACT: Michael S. Rolland, Chief, Leasing Section, BOEM, Alaska OCS Region, 3801 Centerpoint Drive, Suite 500, Anchorage, Alaska 99503-5823, or at (907) 334-5271.

SUPPLEMENTARY INFORMATION: The Five Year Program states: While BOEM has determined that it is appropriate to continue areawide leasing in the GOM * * * BOEM will not be conducting areawide leasing in the Arctic, consistent with rigorous internal analysis as well as a number of outside recommendations to develop alternative leasing approaches for Arctic areas. Rather, potential sales are deliberately set late in the five year program schedule to allow for further analysis and information-gathering. These would be geographically targeted in scope, in order to achieve an appropriate balance between making resources available while limiting conflicts with environmentally sensitive areas and subsistence use by making certain determinations from the outset about which blocks within the planning areas are most suitable for leasing. See, Proposed Final Outer Continental Shelf Oil and Gas Leasing Program 2012-2017, page 94.

In light of the targeted leasing strategy for the Arctic in the current Five Year Program, this Call differs in two ways from Calls issued in the Gulf of Mexico and in earlier Calls issued in the Alaska OCS Region under previous Five Year Programs: (1) Because the leasing will not be areawide, BOEM is requesting more specific nominations within the Program Area (as defined below), including specific support of those nominations in terms of geological and geophysical data, and (2) this Call is not accompanied by a Notice of Intent to Prepare an Environmental Impact Statement (NOI). After BOEM identifies the area for the proposed lease sale based upon the information and nominations received from this Call, BOEM will initiate the formal National Environmental Policy Act (NEPA) process through publication of an NOI. By proceeding in this order, BOEM will be able to use the information obtained through this Call in developing the proposed action and possible alternatives to be identified and scoped in the NOI.

In addition to seeking area nominations, this Call is requesting information concerning geological conditions, including bottom hazards; archaeological sites on the seabed or nearshore; multiple uses of the Program Area, including navigation, recreation, and fisheries; and other socioeconomic, biological, and environmental information, including but not limited to, information regarding oil and gas resource potential, sensitive habitats, subsistence use, unique conditions, and important other uses of the Program Area. This Call and targeted leasing strategy also embraces the principles of an Integrated Arctic Management (IAM) approach as defined by the Interagency Working Group on Coordination of Domestic Energy Development and Permitting in Alaska in its Report to the President: Managing for the Future in a Rapidly Changing Arctic dated March 2013. The IAM approach was also adopted as a key component of the President's National Strategy for the Arctic Region, dated May 2013.

Call for Information and Nominations

1. Authority

This Call is published pursuant to the Outer Continental Shelf Lands Act (OCSLA), as amended (43 U.S.C. 1331-1356), and the regulations issued thereunder (30 CFR part 556).

2. Purpose of This Call

The purpose of this Call is to gather information to determine the Area Identification under 30 CFR 556.26 for Lease Sale 237 in the Program Area. BOEM seeks information and nominations on oil and gas leasing, exploration, development, and production in the Program Area from all interested parties. This early planning and consultation step is important to ensure that all interests and concerns are communicated to the U.S. Department of the Interior for consideration in future decisions in the leasing process pursuant to OCSLA and the regulations at 30 CFR part 556.

3. Description of Program Area

The Program Area is located offshore Alaska in the Chukchi Sea Planning Area. The Chukchi Sea Planning Area extends from the 3-nautical mile (4.8-kilometer) limit of State of Alaska waters, northward from approximately latitude 68°30′ N to latitude 75° N, and from longitude 156° W (roughly north of the village of Barrow) on the east to the United States-Russia Provisional Maritime Boundary on the west at longitude 168°58′ 37″ W. As identified in the Five Year Program, the Program Area is a sub-area of the larger Chukchi Sea Planning Area. As depicted on the page-size map accompanying this Call, the southern boundary of the Program Area generally begins about 25 nautical miles offshore along the coastline, except near Barrow, where it begins approximately 50 nautical miles offshore. The northern boundary of the Program Area is approximately 300 nautical miles from shore. Water depths vary from approximately 65 feet (20 meters) to more than 13,100 feet (4,000 meters) in the Program Area. This Program Area consists of approximately 10,128 whole and partial blocks (about 55.16 million acres, or 22.32 million hectares). A larger scale Call map showing the boundaries and blocks of the Program Area is available without charge on the BOEM Web site at http://www.boem.gov/leasesale237. Copies of Official Protraction Diagrams also are available without charge on the Web site at http://www.boem.gov/Oil-and-Gas-Energy-Program/Mapping-and-Data/Alaska.aspx.

4. Nominations on This Call

Written nominations must be received no later than November 18, 2013. In their letters of nomination, interested parties should describe explicitly their interest by ranking the areas nominated according to priority using five interest classifications: (1) Critical interest, (2) high interest, (3) general interest, (4) low interest, or (5) no interest. The area(s) nominated must be described accurately and shown on the large-scale Call map available at http://www.boem.gov/leasesale237. An interested party nominating areas for inclusion in the sale must provide a detailed explanation of the basis for classifying each nominated area as (1) through (5), including a summary of the relevant geologic, geophysical, and economic information. Interested parties are encouraged to be as specific as possible in prioritizing blocks and supporting nominations of specific blocks in the Program Area with detailed data and/or information. Interested parties should be prepared to discuss their range of interest classifications and anticipated activity regarding the nominated area(s). Interested parties are requested to provide the telephone number and name of the individual to contact. BOEM's Alaska OCS Region office will contact this individual to set up a mutually agreeable meeting date and time to review more fully the interested parties level of interest where an area is classified as critical interest or high interest, and possibly as general interest. Submittals should indicate “Nominations to Call for Chukchi Sea Lease Sale 237.”

To avoid inadvertent release of proprietary information, interested parties should mark all documents and every page containing such information with “Confidential—Contains Proprietary Information.” To the extent a document contains a mix of proprietary and nonproprietary information, interested parties should mark clearly which portion of the document is proprietary and which is not. The OCSLA states that the “Secretary shall maintain the confidentiality of all privileged or proprietary data or information for such period of time as is provided for in this subchapter, established by regulation, or agreed to by the parties” (43 U.S.C. 1344(g)). BOEM considers each interested parties written nominations of specific blocks to be proprietary, and it will not release such information to the public.

5. Exclusion Areas and Other Comments

BOEM is seeking recommendations either to exclude specific blocks or areas from oil and gas leasing, or to be leased under special conditions due to conflicting values, uses or environmental concerns (hereinafter referred to as “proposed exclusion areas”). Interested parties should indicate proposed exclusion areas on the large-scale Call map available at http://www.boem.gov/leasesale237. Interested parties also may use the interactive map tool for the Arctic at http://www.boem.gov/Oil-and-Gas-Energy-Program/Leasing/Five-Year-Program/Lease-Sale-Schedule/Interactive-Maps.aspx. Interested parties are encouraged to be as specific as possible in explaining why the area should be excluded or leased under special conditions, provide supporting information, and be prepared to discuss the proposed exclusion areas with BOEM. Interested parties are requested to provide the telephone number and name of the individual to contact. BOEM's Alaska OCS Region office may contact this individual to set up a mutually agreeable meeting date and time to review more fully the proposed exclusion areas.

BOEM also is seeking comments and information from all interested parties regarding areas that should receive more detailed consideration and analysis; geological conditions, including bottom hazards; archaeological sites on the seabed or nearshore; other uses of the Program Area, including navigation and subsistence; and other socioeconomic, biological, or environmental information. BOEM previously had received comments on the Program Area as part of the Five Year Program process. Those comments included information on the importance of Hanna Shoal and Herald Shoal. While already excluded from the Program Area, comments were also received on the Pt. Barrow area, Kaseguluk Lagoon, Peard Bay, the nearshore lead system, and the bowhead whale migration area. While BOEM will consider information submitted previously on the Five Year Program, BOEM also encourages interested parties who submitted comments on the Five Year Program to refine their earlier comments and provide greater detail or new information, where appropriate, concerning the importance of these areas or associated activities.

6. Submissions of Nominations, Requests for Exclusion Areas, and Other Comments

Interested parties who are requesting area(s) for inclusion in the sale should send their recommendations, along with an explanation of the basis of their interest priority, including a summary of the relevant geologic, geophysical, and economic information supporting their nomination, to: Chief, Leasing Section, BOEM, Alaska OCS Region, 3801 Centerpoint Drive, Suite 500, Anchorage, Alaska 99503-5823.

Requests for proposed exclusion areas or general proposed inclusion areas (absent a formal nomination) and all other comments to this Call, including general information from interested parties, Federal agencies, state and local governments, tribes, and other interested parties, will be accepted only through http://www.regulations.gov, using docket designation BOEM-2013-0015. All comments received via this Web site, including names and addresses of the commenter, are public and will be posted for public review. BOEM will not consider anonymous comments. BOEM will make available all nonproprietary submissions in their entirety on http://www.regulations.gov.

7. Tracking Table and Interactive Map

In the Five Year Program, BOEM established a mitigation/program tracking table (hereinafter referred to as the “Table”), which is designed to track the history and treatment of suggestions for inclusion or exclusion of acreage, temporal deferrals, and/or mitigation from the Five Year Program stage through the lease sale stage to the plan stage. This Table will allow commenters to see how and where their concerns are considered, while ensuring that a reasonable concern not suitable for consideration during one stage will be considered at an appropriate subsequent stage. The Table may be viewed at http://www.boem.gov/Oil-and-Gas-Energy-Program/Leasing/Five-Year-Program/Lease-Sale-Schedule/Tracking-Table.aspx. Appropriate suggestions collected during the comment period on this Call will be added to the Table and tracked throughout the process.

Additionally, BOEM has created an interactive map through the Multipurpose Marine Cadastre (MMC) Web site for Alaska at http://www.boem.gov/Oil-and-Gas-Energy-Program/Leasing/Five-Year-Program/Lease-Sale-Schedule/Interactive-Maps.aspx. The MMC is an integrated marine information system that provides a more comprehensive look at geospatial data and ongoing activities and studies occurring in the area being considered. If interested parties believe that a data layer should be added for consideration, they should provide this information by following the commenting instructions above. Questions about the interactive map may be addressed to Donna Dixon, Chief, Leasing Division, at (703) 787-1215.

8. Use of Information From This Call

BOEM is undertaking a strategy of targeted leasing, whereby the BOEM Director will use the information provided in response to this Call to make an Area Identification decision. BOEM will consider nominations, proposed exclusion areas, and areas proposed to receive special consideration and analysis, in light of resource estimates, information regarding exploratory drilling, environmental reviews, and other relevant information. Using this information, BOEM plans to target leasing by proactively determining which specific portions of the Program Area offer greater resource potential, while minimizing potential conflicts with environmental subsistence considerations.

Information submitted in response to this Call will be used to:

• Determine the Area Identification under 30 CFR 556.26(a) and (b);

• Develop potential lease terms and conditions;

• Identify potential use conflicts and potential mitigation measures; and

• Assist in planning the NEPA scoping process.

9. Existing Information

An extensive Environmental Studies Program, including environmental, social, and economic studies in the Chukchi Sea Planning Area, has been underway in the Alaska OCS Region since 1976. The emphasis has been on environmental characterization of biologically sensitive habitats, marine mammals, physical oceanography, ocean-circulation modeling, subsistence uses, and ecological and sociocultural effects of oil and gas activities. Information on the BOEM Environmental Studies Program, completed studies, and a program status report for continuing studies in this area is available on the BOEM Web site at http://www.boem.gov/akstudies, or it may be obtained from the Chief, Environmental Sciences Management Section, Alaska OCS Region, by telephone request at (907) 334-5200.

NEPA analyses were prepared for previous OCS lease sales held in the Chukchi Sea Planning Area. Previous NEPA analyses for Chukchi Sea lease sales and other actions are available at http://www.boem.gov/About-BOEM/BOEM-Regions/Alaska-Region/Environment/Environmental-Analysis/Environmental-Impact-Statements-and-Major-Environmental-Assessments.aspx. Currently, there are 460 active OCS oil and gas leases in the Chukchi Sea Planning Area, encompassing an area of approximately 2.7 million acres (1.0 million hectares). Information on the leases and other lease-related activities is available at http://www.boem.gov/About-BOEM/BOEM-Regions/Alaska-Region/Leasing-and-Plans/Index.aspx.

Dated: September 26, 2013.
Tommy P. Beaudreau,
Director, Bureau of Ocean Energy Management.

[FR Doc. 2013-24053 Filed 9-27-13; 4:15 pm]

BILLING CODE 4310-MR-P